DEPARTMENT OF ENERGY

Federal Energy Regulatory Commission

[Docket No. CP03-1-000]

El Paso Pipeline Company; Notice of Site Visit

October 23, 2002.

Beginning on Tuesday, November 5, 2002, and ending on Thursday, November 8, 2002, the Federal Energy Regulatory Commission staff will conduct a limited site visit of the existing and proposed compressor station locations where El Paso Natural Gas Company (El Paso) proposes to construct and operate facilities for the Power Up Project.

On November 5, we will visit the proposed Wink and Black River Compressor Station sites and the existing Cornudas Compressor Station, in that order. We will meet at 8 AM at the following location near the proposed Wink Compressor Station: ALCO Discount Store 308 E. U.S. Highway 302 Kermit, Texas 79475. El Paso contact for directions: Jeff Blake, (713) 594-9122.

On November 6, we will meet at 8 AM at the existing El Paso Compressor Station. We will visit the existing El Paso, Florida, and Lordsburg Compressor Stations, in that order. The address for this location is: El Paso Compressor Station, 12600 McCombs St. El Paso, Texas 79934. El Paso contact for directions: Keith Udhe, (915) 821-8081.

On November 7, we will visit the proposed Cimarron and Tom Mix Compressor Station sites and the existing Casa Grande Compressor Station, in that order. We will meet at 8 AM at the following location near the proposed Cimarron Compressor Station: Best Western Plaza Inn (I-10 Exit 340), 1100 W. Rex Allen Dr., Willcox, Arizona. El Paso contact for directions: Sheila Castellano, (719) 510-3516.

Please contact El Paso for directions to the identified compressor stations. For further information, call the Office of External Affairs, at 1-866-208-FERC.

Linwood A. Watson, Jr.,
Deputy Secretary.

[FR Doc. 02-27449 Filed 10-28-02; 8:45 am]

BILLING CODE 6717-01-P